ENVIRONMENTAL PROTECTION AGENCY

40 CFR Part 271

[EPA-R03-RCRA-2024-0046; FRL-11702-01-R3]

West Virginia: Final Authorization of State Hazardous Waste Management Program Revisions

AGENCY: Environmental Protection Agency (EPA).

ACTION: Proposed rule.

SUMMARY: The state of West Virginia has applied to the United States Environmental Protection Agency (EPA) for final authorization of revisions to its hazardous waste program under the Resource Conservation and Recovery Act (RCRA). EPA has determined that these revisions satisfy all requirements needed to qualify for final authorization, subject to public comment. Therefore, in the “Rules and Regulations” section of this Federal Register, we are authorizing West Virginia for these changes as a final action without a prior proposed rule. If we receive no adverse comment, we will not take further action on this proposed rule.

DATES: Send written comments by October 30, 2024.

ADDRESSES: Submit your comments, identified by Docket ID No. EPA-R03-RCRA-2024-0046, at www.regulations.gov. Follow the online instructions for submitting comments. Once submitted, comments cannot be edited or removed from www.regulations.gov. The EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

The EPA encourages electronic submittals, but if you are unable to submit electronically or need other assistance, please contact Priscilla Ortiz Carrero, the contact listed in the FOR FURTHER INFORMATION CONTACT section below. Please also contact Priscilla Ortiz Carrero if you need assistance in a language other than English or if you are a person with disabilities who needs a reasonable accommodation at no cost to you.

FOR FURTHER INFORMATION CONTACT: Priscilla Ortiz Carrero, RCRA Programs Branch; Land, Chemicals, and Redevelopment Division, U.S. Environmental Protection Agency Region 3, Four Penn Center, 1600 John F. Kennedy Blvd. (Mail code 3LD31), Philadelphia, PA 19103-2852; phone: (215) 814-3428, email: ortizcarrero.priscilla@epa.gov.

SUPPLEMENTARY INFORMATION: This document proposes to take action on West Virginia 's revisions to its hazardous waste management program under the Resource Conservation and Recovery Act (RCRA), as amended. We have published a direct final rule authorizing these revisions in the “Rules and Regulations” section of this issue of the Federal Register because we view this as a noncontroversial action and anticipate no adverse comment. We have explained our reasons for this action in the preamble to the direct final rule.

If we receive no adverse comment, we will not take further action on this proposed rule. If we receive adverse comment pertaining to the State revisions, we will withdraw the final action and it will not take effect. We would then address all public comments in a subsequent final action and base any further decision on the authorization of the State program revisions after considering all comments received during the comment period.

We do not intend to institute a second comment period on this action. Any parties interested in commenting must do so at this time. For further information, please see the information provided in the ADDRESSES section of this document.

Authority: This action is issued under the authority of sections 2002(a), 3006 and 7004(b) of the Solid Waste Disposal Act, as amended, 42 U.S.C. 6912(a), 6926, 6974(b).

Adam Ortiz,
Regional Administrator, EPA Region 3.

[FR Doc. 2024-21664 Filed 9-27-24; 8:45 am]

BILLING CODE 6560-50-P